DEPARTMENT OF LABOR

Employment and Training Administration

[TA-W-57,504]

Menasha Holding Company, Menasha Packaging Company, LLC, Danville, VA; Notice of Termination of Investigation

Pursuant to Section 221 of the Trade Act of 1974, an investigation was initiated on July 5, 2005, in response to a petition filed by a company official on behalf of workers at Menasha Holding Company, Menasha Packaging Company, LLC, Danville, Virginia.

The petitioner has requested that the petition be withdrawn. Consequently, the investigation has been terminated.

Signed in Washington, DC, this 18th day of July 2005.
Elliott S. Kushner,
Certifying Officer, Division of Trade Adjustment Assistance.

[FR Doc. E5-4301 Filed 8-8-05; 8:45 am]

BILLING CODE 4510-30-P